DEPARTMENT OF TRANSPORTATION

Pipeline and Hazardous Materials Safety Administration

[Docket: PHMSA-1998-4957]

Request for Public Comments and Office of Management and Budget Approval of an Existing Information Collection Requirement (2137-0618)

AGENCY: Pipeline and Hazardous Materials Safety Administration (PHMSA), U.S. Department of Transportation (DOT).

ACTION: Notice and request for comments.

SUMMARY: In compliance with the Paperwork Reduction Act of 1995 (PRA), this notice announces that PHMSA forwarded an Information Collection Request to the Office of Management and Budget (OMB) for an extension of the currently approved information collection: “Pipeline Safety: Periodic Underwater Inspections” (2137-0618). The purpose of this notice is to invite the public to submit comments on the request.

DATES: Submit comments on or before December 21, 2007.

ADDRESSES: Send comments directly to the Office of Management and Budget, Office of Information and Regulatory Affairs, Attn: Desk Officer for the Department of Transportation, 725 17th Street, NW., Washington, DC 20503.

FOR FURTHER INFORMATION CONTACT: Roger Little at (202) 366-4569, or by e-mail at roger.little@dot.gov.

SUPPLEMENTARY INFORMATION: The Federal pipeline safety regulations (49 CFR Parts 190-199) require operators to conduct appropriate underwater inspections in the Gulf of Mexico. If the operator finds pipeline exposed on the seabed floor or a hazard to navigation, the operator must contact the National Response Center by telephone within 24 hours of discovery and report the location of the exposed pipeline (49 CFR 192.612 and 195.413). PHMSA is now requesting that OMB grant a three-year term of approval for renewal of this information collection requirement.

Pursuant to 44 U.S.C. 3506(c)(2)(A) of the PRA, PHMSA invites comments on whether the information collection is necessary for the proper performance of the functions of DOT. As used in this notice, the term “information collection” includes all work related to preparing and disseminating information related to this information collection requirement including completing paperwork, gathering information, and conducting telephone calls. Comments may include (1) whether the information will have practical utility; (2) the accuracy of DOT's estimate of the burden of the proposed information collection; (3) ways to enhance the quality, utility, and clarity of the information collection; and (4) ways to minimize the burden of the information collection on respondents, including the use of automated collection techniques or other forms of information technology.

Type of Information Collection Request: Renewal of Existing Collection.

Title of Information Collection: Pipeline Safety: Periodic Underwater Inspections.

Respondents: 82.

Estimated Total Annual Burden on Respondents: 1,350 hours.

Estimated Cost: $87,413.

Issued in Washington, DC on November 15, 2007.
Barbara Betsock,
Deputy Director of Regulations, Office of Pipeline Safety.

[FR Doc. E7-22691 Filed 11-20-07; 8:45 am]

BILLING CODE 4910-60-P